FEDERAL DEPOSIT INSURANCE CORPORATION

Notice of Agency Meeting

Pursuant to the provisions of the “Government in the Sunshine Act” (5 U.S.C. 552b), notice is hereby given that at 6 p.m. on Sunday, April 19, 2009, the Board of Directors of the Federal Deposit Insurance Corporation met in closed session to consider matters related to the Corporation's corporate activities.

In calling the meeting, the Board determined, on motion of Director Thomas J. Curry (Appointive), seconded by Acting Director John E. Bowman (Office of Thrift Supervision), concurred in by Director John C. Dugan (Comptroller of the Currency), and Chairman Sheila C. Bair, that Corporation business required its consideration of the matters which were to be the subject of this meeting on less than seven days' notice to the public; that no earlier notice of the meeting was practicable; that the public interest did not require consideration of the matters in a meeting open to public observation; and that the matters could be considered in a closed meeting by authority of subsections (c)(4) and (c)(8), of the “Government in the Sunshine Act” (5 U.S.C. 552b(c)(4) and (c)(8)).

The meeting was held by means of a telephone conference call.

Dated: April 24, 2009.
Valerie J. Best,
Assistant Executive Secretary, Federal Deposit Insurance Corporation.

[FR Doc. E9-9888 Filed 4-27-09; 11:15 am]

BILLING CODE P